DEPARTMENT OF THE INTERIOR

Bureau of Land Management

[LLIDC01000.13XL1109AF.L10200000.MK0000.241A;4500054600]

Notice of Temporary Closure on Public Lands in Shoshone County, ID

AGENCY: Bureau of Land Management, Interior.

ACTION: Notice of temporary closure.

SUMMARY: Notice is hereby given that a closure is in effect on public lands administered by the Coeur d'Alene Field Office, Bureau of Land Management (BLM).

DATES: This Temporary Closure will be in effect for 2 years beginning on April 3, 2014, unless superseded by a travel management decision.

FOR FURTHER INFORMATION CONTACT: Kurt Pavlat, Field Manager, 3815 Schreiber Way, Coeur d'Alene, ID, phone 208-769-5000. Persons who use a telecommunications device for the deaf (TDD) may call the Federal Information Relay Service (FIRS) at 1-800-877-8339 to contact the above individual during normal business hours. The FIRS is available 24 hours a day, 7 days a week, to leave a message or question with the above individuals. You will receive a reply during normal business hours.

SUPPLEMENTARY INFORMATION: This closure affects public lands at the Middle Fork of Pine Creek, in Shoshone County, Idaho. The legal description of the affected public lands is Boise Meridian, T. 47 N., R. 1 E., sec. 13 SE¼NW¼, NE¼SW¼, W½SW¼; sec. 23 NE¼; sec. 24 NW¼NW¼.

The closure is necessary because of damages occurring to natural resources in the area from motorized vehicle use. Motorized vehicle activities within this boulder and bedrock stream segment pose a risk to fisheries, soils, and water quality from potential oil and fuel releases. Affected areas include habitat for westslope cutthroat trout, which is a BLM sensitive species. A temporary road closure in the Middle Fork of Pine Creek is needed to prevent further resource damage. Two miles of road will be temporarily closed to motorized vehicle use in order to effectively manage and protect habitat in the riparian area.

The BLM will post closure signs at main entry points to this area. This closure or restriction order will be posted in the Coeur d'Alene Field Office. Maps of the affected area and other documents associated with this closure are available at the BLM Coeur d'Alene Field Office, 3815 Schreiber Way, Coeur d'Alene, Idaho. This action has been analyzed in the Categorical Exclusion Documentation for the Middle Fork Pine Creek Temporary Road Closure, NEPA # DOI-BLM-ID-C010-2013-0010-CX. It has also been reviewed for conformance with the Coeur d'Alene Resource Management Plan, approved June 2007.

Under the authority of Section 303(a) of the Federal Land Policy and Management Act of 1976 (43 U.S.C. 1733(a)), 43 CFR 8360.0-7, and 43 CFR 8364.1, the BLM will enforce the following rule within the Middle Fork of Pine Creek:

This road is closed to motorized vehicle travel.

Exemptions: The following persons are exempt from this order: Federal, State, and local officers and employees in the performance of their official duties; members of organized rescue or fire-fighting forces in the performance of their official duties; and persons with written authorization from the BLM.

Penalties: Any person who violates the above rule(s) and/or restriction(s) may be tried before a United States Magistrate and fined no more than $1,000, imprisoned for no more than 12 months, or both. Such violations may also be subject to the enhanced fines provided for by 18 U.S.C. 3571.

Authority: 43 CFR 8364.1.

Kurt Pavlat,
Field Manager.

[FR Doc. 2014-04710 Filed 3-3-14; 8:45 am]

BILLING CODE 4310-GG-P